DEPARTMENT OF AGRICULTURE

Animal and Plant Health Inspection Service

[Docket No. APHIS-2019-0086]

General Conference Committee of the National Poultry Improvement Plan; Solicitation for Membership; Correction

AGENCY: Animal and Plant Health Inspection Service, USDA.

ACTION: Notice; correction.

SUMMARY: We are correcting an error in a notice published in the Federal Register on April 27, 2020, which announced a forthcoming General Conference Committee membership solicitation. We provided an incorrect statement regarding nominations. This document corrects that error.

FOR FURTHER INFORMATION CONTACT: Dr. Elena Behnke, Senior Coordinator, National Poultry Improvement Plan, VS, APHIS, USDA, 1506 Klondike Road, Suite 101, Conyers, GA 30094; phone (770) 922-3496; email: elena.behnke@usda.gov.

SUPPLEMENTARY INFORMATION:

Correction

In a notice published in the Federal Register on April 27, 2020 (85 FR 23226-23227, Docket No. APHIS-2019-0086), on page 23226, second column, correct the SUMMARY to read:

SUMMARY: We are giving notice that the Secretary of Agriculture is soliciting nominations for the election of regional members and their alternates for the General Conference Committee of the National Poultry Improvement Plan.

Done in Washington, DC, this 11th day of May 2020.
Michael Watson,
Acting Administrator, Animal and Plant Health Inspection Service.

[FR Doc. 2020-10402 Filed 5-14-20; 8:45 am]

BILLING CODE 3410-34-P